DEPARTMENT OF LABOR

Employment and Training Administration

[TA-W-52,626]

Paper Converting Machine Company, Green Bay, Wisconsin; Amended Certification Regarding Eligibility To Apply for Worker Adjustment Assistance and Alternative Trade Adjustment Assistance

In accordance with section 223 of the Trade Act of 1974 (19 U.S.C. 2273), and under section 246 of the Trade Act of 1974, as amended, the Department of Labor issued a Certification of Eligibility to Apply for Worker Adjustment Assistance and Alternative Trade Adjustment Assistance on September 11, 2003, applicable to workers of Paper Converting Machine Company located in Green Bay, Wisconsin. The notice was published in the Federal Register on October 10, 2003 (68 FR 58720).

At the request of the State Agency, the Department reviewed the certification for workers of the subject firm. The workers produce paper converting machinery.

The review shows that all workers of Paper Converting Machine Company, Green Bay, Wisconsin, were certified eligible to apply for adjustment assistance under TA-W-39,100, which does not expire until January 18, 2004.

Therefore, in order to avoid an overlap in worker group coverage, the Department is amending the August 14, 2002 impact date established for TA-W-52,626, to read January 19, 2004.

The amended notice applicable to TA-W-52,626 is hereby issued as follows:

“All workers of Paper Converting Machine Company, Green Bay, Wisconsin, who become totally or partially separated from employment on or after January 19, 2004, through September 11, 2005, are eligible to apply for adjustment assistance under Section 223 of the Trade Act of 1974, and are also eligible to apply for alternative trade adjustment assistance under Section 246 of the Trade Act of 1974, as amended.”

Signed at Washington, DC, this 22nd day of December 2003.
Elliott S. Kushner,
Certifying Officer, Division of Trade Adjustment Assistance.

[FR Doc. 03-31989 Filed 12-30-03; 8:45 am]

BILLING CODE 4510-30-P